ENVIRONMENTAL PROTECTION AGENCY

40 CFR Part 52

[EPA-R04-OAR-2016-0655; FRL-10012-46-Region 4]

Air Plan Approval; SC and TN: Minimum Reporting Requirements in SIPs

Correction

In Proposed Rule document 2020-15720, appearing on pages 44027-44031, in the issue of Tuesday, July 21, 2020, make the following correction:

On page 44027, in the second column, in the heading title “DATES:”, the entry “July 21, 2020” is corrected to read “August 20, 2020”.

[FR Doc. C1-2020-15720 Filed 8-5-20; 8:45 a.m.]

BILLING CODE 1301-00-D